FEDERAL COMMUNICATIONS COMMISSION

Notice of Public Information Collection(s) Being Reviewed by the Federal Communications Commission for Extension Under Delegated Authority

August 8, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments October 23, 2006. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1-B441, Washington, DC 20554.

FOR FURTHER INFORMATION CONTACT: For additional information about the information collection(s) send an e-mail to PRA@fcc.gov or contact Judith B. Herman at 202-418-0214. If you would like to obtain or view a copy of this information collection after this 60 day comment period, you may do so by visiting the FCC PRA Web page at: http://www.fcc.gov/omd/pra.

SUPPLEMENTARY INFORMATION: OMB Control No.: 3060-0799.

Title: FCC Ownership Disclosure Information for the Wireless Telecommunications Services.

Form No.: FCC Form 602.

Type of Review: Extension of a currently approved collection.

Respondents: Business or other for-profit, not-for-profit institutions, state, local or tribal government.

Number of Respondents: 500 respondents; 5,065 responses.

Estimated Time per Response: .50-3 hours.

Frequency of Response: On occasion reporting requirement and third party disclosure requirement.

Total Annual Burden: 3,565 hours.

Annual Cost Burden: $478,200.

Privacy Act Impact Assessment: N/A.

Needs and Uses: On June 19, 2006, the Commission submitted this collection to the Office of Management and Budget (OMB) as a revision under the emergency processing procedures. We obtained OMB approval for the emergency request on July 17, 2006. OMB approval of the emergency request expires on December 31, 2006. This collection will be submitted to the OMB after this 60 day comment period as an extension (no change in requirements) in order to obtain the full three year clearance from them.

The information collected on the FCC Form 602 include the FCC Registration Numbers (FRNs) for the filer, any related FCC regulated businesses of the filer, disclosable interest holders and any related FCC regulated businesses of disclosable interest holders. These data elements will not be displayed to the public. FCC Form 602 consists of a main form and associated schedule(s) for technical information.

There is no change to the estimated average burden or the number of respondents.

Federal Communications Commission.
William F. Caton,
Deputy Secretary.

[FR Doc. E6-13739 Filed 8-22-06; 8:45 am]

BILLING CODE 6712-01-P